SECURITIES AND EXCHANGE COMMISSION

Sunshine Act Meetings

Notice is hereby given, pursuant to the provisions of the Government in the Sunshine Act, Pub. L. 94-409, that the Securities and Exchange Commission will hold the following meetings during the week of June 23, 2003:

A closed meeting will be held on Tuesday, June 24, 2003, at 2 p.m., and an open meeting will be held on Wednesday, June 25, 2003, at 10 a.m. in Room 1C30, the William O. Douglas Room.

Commissioners, Counsel to the Commissioners, the Secretary to the Commission, and recording secretaries will attend the closed meeting. Certain staff members who have an interest in the matters may also be present.

The General Counsel of the Commission, or his designee, has certified that, in his opinion, one or more of the exemptions set forth in 5 U.S.C. 552b(c)(5), (7), (9)(B) and (10) and 17 CFR 200.402(a)(5), (7), (9)(ii) and (10), permit consideration of the scheduled matters at the closed meeting.

The subject matter of the closed meeting scheduled for Tuesday, June 24, 2003, will be:

Institution and settlement of administrative proceedings of an enforcement nature;

Institution and settlement of injunctive actions;

Formal orders of investigation; and

Opinions.

The subject matter of the open meeting scheduled for Wednesday, June 25, 2003, will be:

1. The Commission will hear oral argument on an appeal by Terence Michael Coxon, Alan Michael Sergy, and World Money Managers (“WMM”), a registered investment adviser, from the decision of an administrative law judge. Coxon is a general partner of WMM, and Sergy was formerly a paid consultant to WMM.

The law judge found that:

a. Respondents willfully violated section 17(a) of the Securities Act of 1933, section 10(b) of the Securities Exchange Act of 1934, and Exchange Act rule 10b-5;

b. Coxon and Sergy willfully violated section 34(b) of the Investment Company Act;

c. WMM willfully violated section 206(2) of the Investment Advisers Act of 1940 and that Coxon and Sergy willfully aided, abetted, and were causes of that violation; and

d. Respondents willfully aided and abetted and were causes of violations by the Permanent Portfolio Family of Funds, Inc. of Investment Company Act of 1940 sections 17(d), 12(b), 13(a)(3), and 10(b), and IC Act rules 17d-1 and 12b-1.

The law judge suspended WMM as an investment adviser for three months and assessed a $100,000 civil money penalty; suspended Coxon and Sergy from association with an investment adviser or investment company for three months and assessed each of them a $20,000 civil money penalty; ordered respondents to cease and desist; and assessed $1,608,018 in disgorgement, plus prejudgment interest.

Among the issues likely to be argued are:

a. Whether respondents committed, aided and abetted, or were causes of the alleged violations; and

b. If so, whether sanctions should be imposed in the public interest.

2. The Commission will hear oral argument on appeals by Fundamental Portfolio Advisers, Inc. (“FPA”), Lance M. Brofman, and Fundamental Service Corporation (“FSC”), from the decision of an administrative law judge. FPA, a registered investment adviser, was the investment adviser to The Fundamental U.S. Government Strategic Income Fund (“the Fund”). Brofman was formerly the chief portfolio manager for the Fund. FSC, a registered broker-dealer affiliated with FPA, distributed shares of the Fund.

The law judge found that FPA violated section 17(a) of the Securities Act of 1933, section 10(b) of the Securities Exchange Act of 1934 and Exchange Act rule 10b-5 thereunder. The law judge also found that FPA violated section 34(b) of the Investment Company Act of 1940, and sections 206(1) and (2) of the Investment Advisers Act of 1940. Additionally, the law judge found that Brofman “aided and abetted and caused” FPA's violations. Finally, the law judge found that FSC violated section 17(a) of the Securities Act, section 10(b) of the Exchange Act and rules 10b-3, and 10b-5 thereunder, and section 15(c)(1) of the Exchange Act and rule 15c1-2 thereunder.

The law judge revoked FPA's investment adviser registration and ordered that FPA pay a civil monetary penalty of $500,000; revoked FSC's broker-dealer registration and ordered that FSC pay a civil monetary penalty of $500,000; and barred Brofman from association with any broker, dealer, investment adviser, or investment company and ordered him to pay a civil monetary penalty of $250,000. The law judge also ordered that Respondents cease and desist from committing or causing any violation or future violation of the provisions they were found to have violated.

Among the issues likely to be argued are:

a. Whether FPA made material misrepresentations and omissions in connection with the offer and sale of Fund shares;

b. Whether FPA failed to disclose to the Fund's Board of Directors its soft dollar arrangements;

c. Whether Brofman aided and abetted and was a cause of FPA's violations; and

d. Whether FSC disseminated materially misleading materials in connection with the sale of Fund shares.

At times, changes in Commission priorities require alterations in the scheduling of meeting items. For further information and to ascertain what, if any, matters have been added, deleted, or postponed, please contact: the Office of the Secretary at (202) 942-7070.

Dated: June 17, 2003.
Jonathan G. Katz,
Secretary.

[FR Doc. 03-15709 Filed 6-17-03; 4:52 pm]

BILLING CODE 8010-01-P